DEPARTMENT OF STATE

[Public Notice 7294]

60-Day Notice of Proposed Information Collection: Certificate of Eligibility for Exchange Visitor (J-1) Status; Form DS-2019, OMB No. 1405-0119

ACTION: Notice of request for public comment.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Certificate of Eligibility for Exchange Visitor (J-1) Status.

• OMB Control Number: OMB No. 1405-0119.

• Type of Request: Extension of a Currently Approved Collection.

• Originating Office: Office of Designation—ECA/EC/D.

• Form Number: Form DS-2019.

• Respondents: U.S. Department of State designated sponsors.

• Estimated Number of Respondents: 1,460.

• Estimated Number of Responses: 350,000 annually.

• Average Hours per Response: 45 minutes.

• Total Estimated Burden: 262,500 hours.

• Frequency: On occasion.

• Obligation to Respond: Required to Obtain or Retain a Benefit.

DATES: The Department will accept comments from the public up to 60 days from January 12, 2011.

ADDRESSES: You may submit comments identified by any of the following methods:

• Persons with access to the Internet may also view this notice and provide comments by going to the regulations.gov Web site at: http://www.regulations.gov/index.cfm.

• Mail (paper, disk, or CD-ROM submissions): U.S. Department of State, Office of Private Sector Exchange, SA-5, 5th Floor, 2200 C Street, NW., Washington, DC 20522.

• E-mail: JExchanges@state.gov.

You must include the DS form number (if applicable), information collection title, and OMB control number in any correspondence.

FOR FURTHER INFORMATION CONTACT: Stanley S. Colvin, Deputy Assistant Secretary for Private Sector Exchange, U.S. Department of State, SA-5, 5th Floor, 2200 C Street, NW., Washington, DC 20522; or e-mail at JExchanges@state.gov.

SUPPLEMENTARY INFORMATION: We are soliciting public comments to permit the Department to:

• Evaluate whether the proposed information collection is necessary for the proper administration of the Exchange Visitor Program (J-Visa).

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The collection is the continuation of information collected and needed by the Bureau of Educational and Cultural Affairs in administering the Exchange Visitor Program (J-Visa) under the provisions of the Mutual Educational and Cultural Exchange Act, as amended.

Methodology: Access to Form DS-2019 is made available to Department designated sponsors electronically via the Student and Exchange Visitor Information System (SEVIS).

Dated: January 6, 2011.
Stanley S. Colvin,
Deputy Assistant Secretary For Private Sector Exchange, Office of Exchange Coordination, Bureau of Educational and Cultural Affairs, Department of State.

[FR Doc. 2011-501 Filed 1-11-11; 8:45 am]

BILLING CODE 4710-05-P